DEPARTMENT OF COMMERCE

International Trade Administration

[A-570-875]

Non-Malleable Cast Iron Pipe Fittings From the People's Republic of China: Final Results of Antidumping Duty Changed Circumstances Review, and Revocation of Order, in Part

AGENCY: Import Administration, International Trade Administration, Department of Commerce.

DATES: Effective Date: April 1, 2011.

SUMMARY: On April 16, 2012, the Department of Commerce (the “Department”) published in the Federal Register a notice of initiation and preliminary results of the antidumping duty (“AD”) changed circumstances review with intent to revoke, in part, the AD order on non-malleable cast iron pipe fittings from the People's Republic of China (“PRC”).¹ Given that Anvil International and Ward Manufacturing (“Petitioners”) ² are no longer interested in seeking antidumping relief from imports of a particular brake fluid tube connector (“connector”), we are revoking this AD order, in part, with regard to this particular connector.

¹ See Non-Malleable Cast Iron Pipe Fittings From the People's Republic of China: Initiation and Preliminary Results of Changed Circumstances Review, and Intent to Revoke Order in Part, 77 FR 22562 (April 16, 2012) (“Initiation and Preliminary Results”).

² Petitioners account for approximately 95 percent of the domestic production of the like product.

FOR FURTHER INFORMATION CONTACT: Zev Primor or Robert Bolling, Import Administration, International Trade Administration, U.S. Department of Commerce, 14th Street and Constitution Avenue NW., Washington, DC 20230; telephone (202) 482-4114 and (202) 482-3434, respectively.

Background

On April 7, 2003, the Department published an AD order on non-malleable cast iron pipe fittings from the PRC.³ On March 6, 2012, Ford Motor Company (“Ford”) requested revocation in part of the AD order pursuant to sections 751(b)(1) and 782(h) of the Tariff Act of 1930, as amended (the “Act”), with respect to Ford's connector. The domestic industry has affirmatively expressed a lack of interest in the continuation of the AD order with respect to this product. On April 16, 2012, the Department published the Initiation and Preliminary Results, excluding the connector from the scope of the AD order on non-malleable cast iron pipe fittings from the PRC.

³ See Notice of Antidumping Duty Order: Non-Malleable Cast Iron Pipe Fittings From the People's Republic of China, 68 FR 16765 (April 7, 2003).

New Scope Language

The following connector is excluded: A “joint block” for brake fluid tubes and is made of non-malleable cast iron to Society of Automotive Engineers (SAE) automotive standard J431. The tubes have an inside diameter of 3.44 millimeters (0.1355 inches) and the inside diameters of the fluid flow channels of the connector are 3.2 millimeters (0.1260 inches) and 3.8 millimeters (0.1496 inches). The end of the tube is forced by pressure over the end of a flared opening in the connector also known as “flared joint.” The flared joint, once made fast, permits brake fluid to flow through channels that never exceed 3.8 millimeters (0.1496 inches) in diameter.

Scope of the Amended Order

The products covered by the order are finished and unfinished non-malleable cast iron pipe fittings with an inside diameter ranging from ¼ inch to 6 inches, whether threaded or unthreaded, regardless of industry or proprietary specifications. The subject fittings include elbows, ells, tees, crosses, and reducers as well as flanged fittings. These pipe fittings are also known as “cast iron pipe fittings” or “gray iron pipe fittings.” These cast iron pipe fittings are normally produced to ASTM A-126 and ASME B.16.4 specifications and are threaded to ASME B1.20.1 specifications. Most building codes require that these products are Underwriters Laboratories (UL) certified. The scope does not include cast iron soil pipe fittings or grooved fittings or grooved couplings.

Fittings that are made out of ductile iron that have the same physical characteristics as the gray or cast iron fittings subject to the scope above or which have the same physical characteristics and are produced to ASME B.16.3, ASME B.16.4, or ASTM A-395 specifications, threaded to ASME B1.20.1 specifications and UL certified, regardless of metallurgical differences between gray and ductile iron, are also included in the scope of the order. These ductile fittings do not include grooved fittings or grooved couplings. Ductile cast iron fittings with mechanical joint ends (MJ), or push on ends (PO), or flanged ends and produced to the American Water Works Association (AWWA) specifications AWWA C110 or AWWA C153 are not included. Additionally, certain brake fluid tube connectors are excluded from the scope of this order.⁴

⁴ To be excluded, the connector must meet the following description: The connector is a “joint block” for brake fluid tubes and is made of non-malleable cast iron to Society of Automotive Engineers (SAE) automotive standard J431. The tubes have an inside diameter of 3.44 millimeters (0.1355 inches) and the inside diameters of the fluid flow channels of the connector are 3.2 millimeters (0.1260 inches) and 3.8 millimeters (0.1496 inches). The end of the tube is forced by pressure over the end of a flared opening in the connector also known as “flared joint.” The flared joint, once made fast, permits brake fluid to flow through channels that never exceed 3.8 millimeters (0.1496 inches) in diameter.

Imports of subject merchandise are currently classifiable in the Harmonized Tariff Schedule of the United States (HTSUS) under item numbers 7307.11.00.30, 7307.11.00.60, 7307.19.30.60, 7307.19.30.85. HTSUS subheadings are provided for convenience and customs purposes. The written description of the scope of the order is dispositive.⁵

⁵ On April 21, 2009, in consultation with the U.S. Customs and Border Protection (CBP), the Department added the following HTSUS classification to the AD/CVD module for pipe fittings: 7326.90.8588. See Memorandum from Abdelali Elouaradia, Office Director, Import Administration, Office 4 to Stephen Claeys, Deputy Assistant Secretary, Import Administration regarding the Final Scope Ruling on Black Cast Iron Cast, Green Ductile Flange and Twin Tee, antidumping duty order on non-malleable iron cast pipe fittings from the PRC, dated September 19, 2008. See also Memorandum to the file from Karine Gziryan, Financial Analyst, Office 4, regarding Module Update adding HTSUS number for twin tin fitting included in the scope of antidumping order on non-malleable iron cast pipe fittings from the PRC, dated April 22, 2009.

Final Results of Review: Partial Revocation of Antidumping Duty Order

The affirmative statement of no interest by Petitioners concerning certain brake fluid connectors, as described herein, constitutes changed circumstances sufficient to warrant revocation of this order in part. No party commented on the Initiation and Preliminary Results. Additionally, no party contests that Petitioners' statement of no interest represents the views of domestic producers accounting for substantially all of the production of the particular domestic like product (i.e., connector). Therefore, the Department is partially revoking the order on non-malleable cast iron pipe fittings from the PRC with regard to a product which meets the specifications detailed above, in accordance with sections 751(b), (d) and 782(h) of the Act and 19 CFR 351.216(d) and 351.222(g).

In this changed circumstances review, we have determined to revoke the order in part, retroactive to April 1, 2011, (the date following the last day of the most recently completed administrative review) for unliquidated entries in light of: (1) The submission by Petitioners; (2) the fact that entries after this date are not subject to a final determination by the Department; and (3) we have received no comments following our preliminary results of April 16, 2012, where we indicated that this changed circumstances review will apply retroactively. We hereby notify the public of our revocation in part with respect to a connector in the antidumping duty order on non-malleable cast iron pipe fittings from the PRC retroactive to April 1, 2011.

We will instruct U.S. Customs and Border Protection to liquidate without regard to antidumping duties, as applicable, and to refund any estimated antidumping duties collected for all unliquidated entries of a certain connector, made on or after April 1, 2011, meeting the specifications indicated above, in accordance with 19 CFR 351.222.

This notice serves as a reminder to parties subject to administrative protective orders (“APOs”) of their responsibility concerning the disposition of proprietary information disclosed under APO in accordance with 19 CFR 351.306. Timely written notification of the return/destruction of APO materials or conversion to judicial protective order is hereby requested. Failure to comply with the regulations and terms of an APO is a sanctionable violation.

This changed circumstances administrative review, partial revocation of the antidumping duty order and notice are in accordance with sections 751(b), (d) and 782(h) of the Act and 19 CFR 351.216(e) and 351.222(g).

Dated: May 21, 2012.
Paul Piquado,
Assistant Secretary for Import Administration.

[FR Doc. 2012-12979 Filed 5-25-12; 8:45 am]

BILLING CODE 3510-DS-P